DEPARTMENT OF COMMERCE

National Oceanic and Atmospheric Administration

50 CFR Part 622

[Docket No. 200113-0013; RTID 0648-XA688]

Fisheries of the Caribbean, Gulf of Mexico, and South Atlantic; 2020 Commercial Closure for South Atlantic Snowy Grouper

AGENCY: National Marine Fisheries Service (NMFS), National Oceanic and Atmospheric Administration (NOAA), Commerce.

ACTION: Temporary rule; closure.

SUMMARY: NMFS implements an accountability measure for the commercial sector of snowy grouper in the exclusive economic zone (EEZ) of the South Atlantic. NMFS projects commercial landings of snowy grouper will reach the commercial annual catch limit (ACL) for the July through December season by December 12, 2020. Therefore, NMFS closes the commercial sector for snowy grouper in the South Atlantic EEZ on December 12, 2020. This closure is necessary to protect the snowy grouper resource.

DATES: This temporary rule is effective at 12:01 a.m., local time, on December 12, 2020, until 12:01 a.m., local time, on January 1, 2021.

FOR FURTHER INFORMATION CONTACT: Mary Vara, NMFS Southeast Regional Office, telephone: 727-824-5305, email: mary.vara@noaa.gov.

SUPPLEMENTARY INFORMATION: The snapper-grouper fishery of the South Atlantic includes snowy grouper and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

All weights described in this temporary rule are in gutted weight.

The commercial ACL (commercial quota) for snowy grouper in the South Atlantic is divided into two 6-month fishing seasons. The total commercial ACL for snowy grouper is allocated 70 percent, or 107,754 lb (48,876 kg), for the January through June commercial fishing season, and 30 percent, or 46,181 lb (20,947 kg), for the July through December fishing season, as specified in 50 CFR 622.190(a)(1)(i) and (ii).

After the January through June 2020 fishing season, 3,048 lb (1,382 kg) of the snowy grouper commercial quota remained unharvested. As specified in 50 CFR 622.190(a)(1)(iii), NMFS added this unused portion of the snowy grouper commercial quota to the commercial quota for the July through December 2020 fishing season. Therefore, the snowy grouper commercial quota for the July through December 2020 fishing season is 49,229 lb (22,329 kg). Any unused commercial quota for the July through December fishing season becomes void and will not be added to any subsequent quota (622.190(a)(1)(iii)).

Under 50 CFR 622.193(b)(1), NMFS is required to close the commercial sector for snowy grouper when the commercial quota specified in 50 CFR 622.190(a)(1) is reached or is projected to be reached, by filing a notification to that effect with the Office of the Federal Register. NMFS projects that commercial landings of South Atlantic snowy grouper, as estimated by the Science and Research Director, will reach the adjusted July through December 2020 commercial quota by December 12, 2020. Accordingly, the commercial sector for South Atlantic snowy grouper is closed effective at 12:01 a.m., local time, on December 12, 2020, and remains closed until the start of the next January through June fishing season on January 1, 2021.

The operator of a vessel with a valid commercial vessel permit for South Atlantic snapper-grouper having snowy grouper on board must have landed and bartered, traded, or sold such snowy grouper prior to 12:01 a.m., local time, on December 12, 2020. During the commercial closure, harvest and possession of snowy grouper in or from the South Atlantic EEZ is limited to the bag and possession limits, as specified in § 622.187(b)(2)(ii) and (c)(1). Also during the commercial closure, the sale or purchase of snowy grouper taken from the EEZ is prohibited. The prohibition on sale or purchase does not apply to the sale or purchase of snowy grouper that were harvested, landed ashore, and sold prior to 12:01 a.m., local time, on December 12, 2020, and were held in cold storage by a dealer or processor.

For a person on board a vessel for which a Federal commercial or charter vessel/headboat permit for South Atlantic snapper-grouper has been issued, the bag and possession limits and the sale and purchase provisions during the commercial closure for snowy grouper apply regardless of whether the fish are harvested in state or Federal waters, as specified in 50 CFR 622.190(c)(1)(ii).

Classification

NMFS issues this action pursuant to section 305(d) of the Magnuson-Stevens Act. This action is required by 50 CFR 622.193(b)(1), which was issued pursuant to section 304(b) of the Magnuson-Stevens Act, and is exempt from review under Executive Order 12866.

These measures are exempt from the procedures of the Regulatory Flexibility Act because the temporary rule is issued without opportunity for prior notice and comment.

Pursuant to 5 U.S.C. 553(b)(B), there is good cause to waive prior notice and an opportunity for public comment as such procedures are unnecessary and contrary to the public interest. Such procedures are unnecessary because the regulations associated with the commercial quota for South Atlantic snowy grouper have already been subject to notice and comment, and all that remains is to notify the public of the commercial closure for the remainder of the July through December 2020 fishing season. Prior notice and opportunity for public comment on this action is contrary to the public interest because of the need to immediately implement the commercial closure to protect South Atlantic snowy grouper, because the capacity of the fishing fleet allows for rapid harvest of the commercial quota. Prior notice and opportunity for public comment would require time and would potentially result in a harvest that exceeds the commercial quota.

For the aforementioned reasons, there is good cause under 5 U.S.C. 553(d)(3) to waive the 30-day delay in the effective date of this action.

Authority: 16 U.S.C. 1801 et seq.

Dated: December 4, 2020.
Jennifer M. Wallace,
Acting Director, Office of Sustainable Fisheries, National Marine Fisheries Service.

[FR Doc. 2020-27064 Filed 12-7-20; 8:45 am]

BILLING CODE 3510-22-P